DEPARTMENT OF AGRICULTURE

Agricultural Marketing Service

[Document Number AMS-SC-19-0061]

Meeting of the Fruit and Vegetable Industry Advisory Committee

AGENCY: Agricultural Marketing Service, USDA.

ACTION: Notice of public meeting.

SUMMARY: In accordance with the Federal Advisory Committee Act, as amended, the Agricultural Marketing Service (AMS), U.S. Department of Agriculture (USDA), is announcing a meeting of the Fruit and Vegetable Industry Advisory Committee (Committee). The meeting is being convened to examine the full spectrum of fruit and vegetable industry issues and provide recommendations and ideas to the Secretary of Agriculture on how the U.S. Department of Agriculture (USDA) can tailor programs and services to better meet the needs of the U.S. produce industry.

DATES: The Committee will meet in-person on Wednesday, August 14, 2019, from 8:30 a.m. to 5:00 p.m. Eastern Time (ET), and Thursday, August 15, 2019, from 8:30 a.m. to 1:00 p.m., ET. In person oral comments will be heard on Wednesday, August 14, 2019. The deadline to submit written comments and/or sign up for oral comments is 11:59 p.m. ET, July 31, 2019.

ADDRESSES: The Committee meeting will be held at the Hyatt Regency Crystal City Hotel, 2799 Jefferson Davis Highway, Arlington, Virginia 22202. Detailed information pertaining to the meeting can be found at: https://www.ams.usda.gov/about-ams/facas-advisory-councils/fviac.

FOR FURTHER INFORMATION CONTACT: Darrell Hughes, Fruit and Vegetable Industry Advisory Committee, USDA, AMS, Specialty Crop Program, 1400 Independence Avenue SW, Room 2083-S, STOP 0235, Washington, DC 20250-0235; Telephone: (202) 378-2576; Email: SCPFVIAC@ams.usda.gov.

SUPPLEMENTARY INFORMATION: Pursuant to the Federal Advisory Committee Act (FACA) (5 U.S.C. App. 2), the Secretary of Agriculture (Secretary) established the Committee in 2001 to examine the full spectrum of issues faced by the fruit and vegetable industry and to provide suggestions and ideas to the Secretary on how USDA can tailor its programs to meet the fruit and vegetable industry's needs. The committee was reestablished in March 2018 for a two-year period.

The AMS Deputy Administrator for the Specialty Crops Program serves as the Committee's Executive Secretary, leading the effort to administer the Committee's activities. Representatives from USDA mission areas and other government agencies affecting the fruit and vegetable industry are periodically called upon to participate in the Committee's meetings as determined by the Committee. AMS is giving notice of the Committee meeting to the public so that they may attend and present their views. The meeting is open to the public.

Agenda items may include, but are not limited to, welcome and introductions, administrative matters, consideration of topics for potential working group discussion and proposal, and presentations by subject matter experts as requested by the Committee.

Public Comments: Comments should address specific topics noted on the meeting agenda.

Written Comments: Written public comments will be accepted on or before 11:59 p.m. ET on July 31, 2019, via http://www.regulations.gov: Document #AMS-SC-19-0061. Comments submitted after this date will be provided to AMS, but the Committee may not have adequate time to consider those comments prior to the meeting. AMS, Specialty Crop Program, strongly prefers that comments be submitted electronically. However, written comments may also be submitted (i.e., postmarked) via mail to the person listed in the FOR FURTHER INFORMATION CONTACT section by or before the deadline.

Oral Comments: The Committee is providing the public an opportunity to provide oral comments and will accommodate as many individuals and organizations as time permits. Persons or organizations wishing to make oral comments must pre-register by 11:59 p.m. ET, July 31, 2019, and can register for only one speaking slot. Instructions for registering and participating in the meeting can be obtained by contacting the person listed in the FOR FURTHER INFORMATION CONTACT section by or before the deadline.

Meeting Accommodations: The Hyatt Regency Crystal City is ADA compliant and the USDA provides reasonable accommodations to individuals with disabilities where appropriate. If you need a reasonable accommodation to participate in this public meeting, please notify the person listed in the FOR FURTHER INFORMATION CONTACT section. Determinations for reasonable accommodations will be made on a case-by-case basis.

Dated: July 17, 2019.
Bruce Summers,
Administrator.

[FR Doc. 2019-15520 Filed 7-19-19; 8:45 am]

BILLING CODE 3410-02-P